DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species.

DATES: Written data, comments or requests must be received by February 27, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone (703) 358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: National Zoological Park, Washington, DC, PRT-111394.

The applicant requests a permit to import 4 male and 4 female captive-bred Japanese giant salamanders (Andrias japonicus) from the Asa Zoological Park, Japan, for the purpose of enhancement of the survival of the species.

Applicant: Animal Ark, Inc., Reno, NV, PRT-110361.

The applicant requests a permit to import two male captive-bred cheetahs (Acinonyx jubatus) from the De Wildt Cheetah and Wildlife Centre, South Africa for the purpose of enhancement of the survival of the species.

Dated: January 6, 2006.
Michael L. Carpenter,
Senior Permit Biologist, Branch of Permits, Division of Management Authority.

[FR Doc. E6-949 Filed 1-25-06; 8:45 am]

BILLING CODE 4310-55-P